ENVIRONMENTAL PROTECTION AGENCY

[EPA-HQ-OPP-2005-0162; FRL-8389-4]

Carbofuran; Notice of Receipt of Request to Voluntarily Cancel Carbofuran Pesticide Registrations

AGENCY: Environmental Protection Agency (EPA).

ACTION: Notice.

SUMMARY: In accordance with section 6(f)(1) of the Federal Insecticide, Fungicide, and Rodenticide Act (FIFRA), as amended, EPA is issuing a notice of receipt of a request dated September 29, 2008 by the registrant to voluntarily cancel some registrations and amend other registrations to terminate uses of certain end-use products containing the pesticide carbofuran. The request would terminate flowable carbofuran use in or on alfalfa, cotton, ornamentals, popcorn, small grains (wheat, oats and barley) soybeans, sugarcane, sweet corn, and tobacco. The request would also terminate all carbofuran products registered under FIFRA section 24 Special Local Need Labels for use in or on corn (field), CRP acres, cucumbers, grapes, melons, ornamentals (container and field production), peppers (including Chiles and bell), sorghum, squash, sugar beets, sugarcane (soil applied), tobacco, and small grains (wheat, oats, and barley). The request would also terminate, subject to a two-year phase-out period, the use of flowable carbofuran as a post-plant application to artichokes. The request proposes to cancel the use of granular carbofuran on bananas, coffee, cucumbers, melons, and squash. The request would not terminate the last carbofuran products registered for use in the US.

DATES: Comments must be received on or before January 20, 2009.

ADDRESSES: Submit your comments, identified by docket identification (ID) number EPA-HQ-OPP-2005-0162 by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility’s normal hours of operation (8:30 a.m. to 4 p.m., Monday through Friday, excluding legal holidays). Special arrangements should be made for deliveries of boxed information. The Docket Facility telephone number is (703) 305-5805.

Instructions: Direct your comments to docket ID number EPA-HQ-OPP-2005-0162. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Jude Andreasen, Special Review and Reregistration Division (7508P), Office of Pesticide Programs, Environmental Protection Agency, 1200 Pennsylvania Ave., NW., Washington, DC 20460-0001; telephone number: (703) 308-9342; fax number: (703) 308-7070; e-mail address: andreasen.jude@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests to Cancel Registrations

This notice announces receipt by EPA of a written request dated September 29, 2008 from FMC Corporation, the sole registrant of carbofuran, to cancel carbofuran product registrations on certain uses. Carbofuran is an N-methyl carbamate insecticide. The affected products and uses are provided in Table 1. This request will result in the termination of the use of flowable and granular carbofuran products on certain crops in the United States. The request would also terminate all carbofuran products registered under FIFRA section 24 Special Local Need Labels for use in or on corn (field), CRP acres, cucumbers, grapes, melons, ornamentals (container and field production), peppers (including Chiles and bell), sorghum, squash, sugar beets, sugarcane (soil applied), tobacco, and small grains (wheat, oats, and barley). The request would also terminate, subject to a two-year phase-out period, the use of flowable carbofuran as a post-plant application to artichokes. The request proposes to cancel the use of granular carbofuran on bananas, coffee, cucumbers, melons, and squash. The request would not terminate the last carbofuran products registered for use in the US. The request does not affect the use of granular carbofuran (products 279-3023 and 279-2712) on pumpkin. This request does not affect the existing volume limitations (2,500 pounds active ingredient per year) for granular product manufacture. EPA intends to grant this request for cancellation at the close of the comment period for this announcement unless the Agency receives a request within the comment period to transfer the registration to a new registrant or unless the registrant withdraws their request within this period. Upon acceptance of this request, any sale, distribution, or use of products listed in this notice will be permitted only if such sale, distribution, or use is consistent with the terms as described in the final order. Any carbofuran uses not affected by this voluntary cancellation request, and any uses for which the requested cancellation do not become final, will remain subject to cancellation through the process that the Agency initiated in a draft Notice of Intent to Cancel (NOIC) carbofuran, January 8, 2008, which can be accessed in the public docket at www.regulations.gov, docket number EPA-HQ-OPP-2005-0162. The basis for the draft NOIC was that pesticide products containing carbofuran, when used in accordance with widespread and commonly recognized practice, generally cause unreasonable adverse effects on humans and the environment. EPA further determined that none of the available alternatives to cancellation of all registered uses could reduce the potential risks to acceptable levels.

III. What Action is the Agency Taking?

This notice announces receipt by EPA of a request from FMC Corporation to cancel certain uses of flowable and granular carbofuran. The affected products and the registrants making the request are identified in Table 1 and Table 2 of this unit.

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation or use termination. In addition, section 6(f)(1)(C) of FIFRA requires that EPA provide a 180-day comment period on a request for voluntary cancellation or termination of any minor agricultural use before granting the request, unless:

1. The registrants request a waiver of the comment period, or

2. The Administrator determines that continued use of the pesticide would pose an unreasonable adverse effect on the environment.

FMC Corporation, a carbofuran registrant, has requested that EPA waive the 180-day comment period. EPA will provide a 30-day comment period on the proposed requests.

Unless a request is withdrawn by the registrant within 30 days of publication of this notice, or if the Agency determines that there are substantive comments that warrant further review of this request, an order will be issued canceling the affected registrations.

Table 1a.—Carbofuran Product Registrations with Pending Requests for Cancellation of Certain Uses
Registration Number | Product Name | Company
279-2876 | Furadan 4F | FMC Corporation
279-3310 | Furadan LFR | FMC Corporation
279-2712 | Furadan 10G | FMC Corporation
279-3023 | Furadan 15G | FMC Corporation

Table 1b.—Carbofuran Product Registrations with Pending Requests for Cancellation of All Uses of Carbofuran
Registration Number | Product Name | Company
279-2922 | Furadan 5G | FMC Corporation

Table 1c.—Carbofuran Special Local Need (SLN) Product Registrations with Pending Requests for Cancellation of All Uses of Carbofuran
Registration Number | Company
AL880003 | FMC Corporation
AL940002 | FMC Corporation
AR810051 | FMC Corporation
AR810052 | FMC Corporation
AZ910001 | FMC Corporation
CA830058 | FMC Corporation
CA860037 | FMC Corporation
CA940005 | FMC Corporation
CA980011 | FMC Corporation
CA980012 | FMC Corporation
CO920001 | FMC Corporation
CO920002 | FMC Corporation
DE830004 | FMC Corporation
DE930001 | FMC Corporation
IA930001 | FMC Corporation
ID060003 | FMC Corporation
ID060004 | FMC Corporation
ID910007 | FMC Corporation
ID920002 | FMC Corporation
IL040002 | FMC Corporation
IL980003 | FMC Corporation
IN830001 | FMC Corporation
IN930001 | FMC Corporation
KS880001 | FMC Corporation
KS880002 | FMC Corporation
LA000009 | FMC Corporation
LA050001 | FMC Corporation
LA990007 | FMC Corporation
MD810008 | FMC Corporation
MI820025 | FMC Corporation
MI930001 | FMC Corporation
MO790006 | FMC Corporation
MO810024 | FMC Corporation
MO860003 | FMC Corporation
MO930002 | FMC Corporation
MS820020 | FMC Corporation
MT860007 | FMC Corporation
NC800003 | FMC Corporation
NE880003 | FMC Corporation
NE920006 | FMC Corporation
NE920009 | FMC Corporation
NE950001 | FMC Corporation
NJ980004 | FMC Corporation
NM060001 | FMC Corporation
NM060002 | FMC Corporation
NM780015 | FMC Corporation
NM980002 | FMC Corporation
OH930001 | FMC Corporation
OK810012 | FMC Corporation
OK930009 | FMC Corporation
OR060016 | FMC Corporation
OR060017 | FMC Corporation
OR830016 | FMC Corporation
OR830036 | FMC Corporation
OR910006 | FMC Corporation
OR920014 | FMC Corporation
PA840005 | FMC Corporation
PA940001 | FMC Corporation
PR850001 | FMC Corporation
PR960003 | FMC Corporation
SC790026 | FMC Corporation
SC940005 | FMC Corporation
SD900013 | FMC Corporation
TX030002 | FMC Corporation
TX060012 | FMC Corporation
TX060013 | FMC Corporation
TX810006 | FMC Corporation
TX930008 | FMC Corporation
TX930011 | FMC Corporation
VA780006 | FMC Corporation
VA790014 | FMC Corporation
VA930001 | FMC Corporation
WA860012 | FMC Corporation
WA910006 | FMC Corporation
WY030002 | FMC Corporation
WY900003 | FMC Corporation

Table 2 of this unit includes the name and address of record for the registrant of the products listed in Table 1 of this unit.

Table 2.—Registrant Requesting Voluntary Cancellation
EPA Company No. | Company name and address
279 | FMC Corporation Agricultural Products Group 1735 Market Street Philadelphia, PA 19103

IV. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

V. Procedures for Withdrawal of Request and Considerations for Reregistration of Carbofuran

Registrants who choose to withdraw a request for cancellation must submit such withdrawal in writing to the person listed under FOR FURTHER INFORMATION CONTACT, postmarked before January 20, 2009. This written withdrawal of the request for cancellation will apply only to the applicable FIFRA section 6(f)(1) request listed in this notice. If the products(s) have been subject to a previous cancellation action, the effective date of cancellation and all other provisions of any earlier cancellation action are controlling.

VI. Provisions for Disposition of Existing Stocks

Existing stocks are those stocks of registered pesticide products which are currently in the United States and which were packaged, labeled, and released for shipment prior to the effective date of the cancellation action.

In any order issued in response to this request for cancellation of product registrations, EPA proposes to include the following provisions for the treatment of any existing stocks of the products identified or referenced in Table 1. The registrant will be allowed to sell and distribute the subject products through the effective date of this cancellation order. In addition, existing stocks of carbofuran products may be sold or used until they are depleted, or until tolerances are revoked.

The Agency intends to allow use on artichokes through December 31, 2010. The Agency is soliciting comment on whether there are sufficient stocks of product to allow for this use, or whether additional carbofuran production will be needed to address this use.

An existing stocks provision was included in a Federal Register notice published December 10, 2008 regarding a number of pesticide products, including several carbofuran products. The existing stocks provision in that notice will be superseded by the existing stocks provision in the cancellation order for today's notice.

List of Subjects

Environmental protection, Pesticides and pests.

Dated: December 11, 2008.
Steven Bradbury,
Director, Special Review and Reregistration Division, Office of Pesticide Programs.

[FR Doc. E8-30249 Filed 12-18-08; 8:45 am]

BILLING CODE 6560-50-S